NUCLEAR REGULATORY COMMISSION

10 CFR Part 73

RIN 3150-AH60

Design Basis Threat; Reopening of Comment Period

AGENCY: Nuclear Regulatory Commission.

ACTION: Proposed rule: Reopening of comment period.

SUMMARY: On November 7, 2005 (70 FR 67380), the Nuclear Regulatory Commission (NRC) published for public comment a proposed rule consolidating the supplemental requirements established by the April 29, 2003, design basis threat (DBT) orders with the existing DBT requirements in 10 CFR 73.1(a). Specific details of the attributes of the DBT to be protected against, which include both safeguards information (SGI) and classified information, are consolidated in adversary characteristics documents (ACDs) and Regulatory Guides (RGs). The proposed rule would revise the DBT requirements both for radiological sabotage and for theft or diversion of Strategic Special Nuclear Material (SSNM). ACDs and RGs provide guidance to licensees concerning the DBT for radiological sabotage, theft and diversion. They contain the specific details of the attributes of the threat which licensees need to know in order to evaluate what is necessary to comply with the proposed rule. On December 21, 2005, the Nuclear Energy Institute (NEI) requested a 30 day extension to the public comment period. Their request was based on the fact that though the proposed rule was published on November 7, 2005, the RGs and the ACDs were not available at that time. NEI requested copies of these documents. The NRC staff agreed to provide these documents to the properly cleared individuals with a need to know, and NEI received the draft RGs and ACDs for power reactors on December 19, 2005. In view of the delay in providing the documents to the cleared personnel and in the interests of obtaining public comment from the broadest range of stakeholders, the comment period on the proposed rule is being extended for an additional 30 days from the original January 23, 2006, deadline to February 22, 2006.

DATES: The comment period has been extended and now expires on February 22, 2006. Comments received after this date will be considered if it is practical to do so, but the Commission is able to ensure consideration only for comments received before this date.

ADDRESSES: Mail written comments to: Secretary, U.S. Nuclear Regulatory Commission, Washington, DC 20555-0001, Attn: Rulemakings and Adjudications Staff.

Hand delivered comments should also be addressed to the Secretary, U.S. Nuclear Regulatory Commission, and delivered to 11555 Rockville Pike, Rockville, MD, between 7:30 a.m. and 4:15 p.m. Federal workdays.

You may also provide comments via the NRC's interactive rulemaking Web site: http://ruleforum.llnl.gov. This site also provides the availability to upload comments as files (any format), if your Web browser supports that function. For information about the interactive rulemaking site, contact Ms. Carol Gallagher, (301) 415-5905; e-mail: CAG@nrc.gov.

Certain documents relating to this rulemaking, including comments received, may be examined at the NRC Public Document Room, 11555 Rockville Pike, Room O1-F21, Rockville, MD. The same documents may also be viewed and downloaded electronically via the rulemaking Web site: http://ruleforum.llnl.gov. Documents created or received at the NRC after November 1, 1999 are also available electronically at the NRC's Public Electronic Reading room on the Internet at http://www.nrc.gov/NRC/ADAMS/index.html. From this site, the public can gain entry into the NRC's Agencywide Document Access and Management System (ADAMS), which provides text and image files of NRC's public documents. For more information, contact the NRC Public Document Room (PDR) Reference staff at 1-800-397-4209, 202-634-3273 or by e-mail to pdr@nrc.gov.

FOR FURTHER INFORMATION CONTACT: Mr. Manash K. Bagchi, Office of the Nuclear Reactor Regulation, U.S. Nuclear Regulatory Commission, Washington, DC 20555-0001; telephone (301) 415-2905; e-mail MKB2@nrc.gov or Mr. Richard Rasmussen, Office of Nuclear Security and Incident Response, U.S. Nuclear Regulatory Commission, Washington, DC 20555-0001; telephone (301) 415-8380; e-mail RAR@nrc.gov.

Dated at Rockville, Maryland, this 18th day of January, 2006.
For the Nuclear Regulatory Commission.
Annette L. Vietti-Cook,
Secretary of the Commission.

[FR Doc. 06-676 Filed 1-23-06; 8:45 am]

BILLING CODE 7590-01-P